DEPARTMENT OF HOMELAND SECURITY

Coast Guard

33 CFR Part 165

[Docket Number USCG-2024-0083]

Security Zone; Coast Guard Base Los Angeles-Long Beach on Terminal Island, San Pedro, CA

AGENCY: Coast Guard, DHS.

ACTION: Notification of inquiry; request for comments; notice of meeting.

SUMMARY: We are requesting your comments on the proposed establishment of a security zone for navigable waters within a 50-yard radius of Base Los Angeles-Long Beach on Terminal Island within the main channel of Los Angeles Harbor. This proposed action would provide for the security of Coast Guard personnel, vessels, and property. We seek your comments on the proposed security zone and consideration of the proposed radius. We also plan to host a public meeting on September 23, 2024.

DATES: Your comments and related material must reach the Coast Guard on or before October 4, 2024.

A public meeting will be held 10 a.m. September 23, 2024. See the “Public Participation and Request for Comments” portion of the SUPPLEMENTARY INFORMATION section for further details.

ADDRESSES: You may submit comments identified by docket number USCG-2024-0083 using the Federal portal at https://www.regulations.gov. See the “Public Participation and Request for Comments” portion of the SUPPLEMENTARY INFORMATION section for further instructions on submitting comments.

The public meeting held on September 23, 2024, will be held virtually. Please contact the person listed in the FOR FURTHER INFORMATION CONTACT section for call-in information.

FOR FURTHER INFORMATION CONTACT: If you have questions about this notice of inquiry, call or email LCDR Kevin Kinsella, Waterways Management Division, U.S. Coast Guard; telephone 310-521-3860, email D11-SMB-SectorLALB-WWM@uscg.mil.

SUPPLEMENTARY INFORMATION:

I. Table of Abbreviations

CFR Code of Federal Regulations

DHS Department of Homeland Security

U.S.C. United States Code

II. Background, and Purpose

In the past twelve months, there have been two suspicious activities that required immediate response actions to safeguard the personnel and property of the Base Los Angeles-Long Beach on Terminal Island within the main channel of Los Angeles Harbor (Coast Guard base). To help address this threat in a proactive manner, we are requesting comments on establishing a security zone. This proposed security zone could enable adequate response activities and limit unnecessary introduction of security hazards to U.S. Government property and personnel.

The Coast Guard is considering proposing a security zone extending alongside Terminal Island within the bounds of the Coast Guard Base with a 50-yard radius within the Los Angeles Main Channel in San Pedro Bay, CA. No vessels will be able to loiter or anchor within this area, if established.

IV. Information Requested

To appropriately secure the Coast Guard Base while considering public use of the surrounding area, we are requesting your comments prior to publishing a proposed rule. We request comments on the proposed establishment of a security zone for navigable waters within a 50-yard radius of Base Los Angeles-Long Beach on Terminal Island within the main channel of Los Angeles Harbor. This proposed action would provide for the security of Coast Guard personnel, vessels, and property. We seek your comments on establishment of a proposed security zone and the proposed 50-yard radius.

Do you agree or disagree with the proposed radius and location of the zone? If not, what is your proposed distance of the zone from shore? Do you have any suggested alternatives?

V. Public Participation and Request for Comments

We encourage you to submit comments in response to this notice of inquiry through the Federal Decision Making portal at https://www.regulations.gov. To do so, go to https://www.regulations.gov, type USCG-2024-0083 in the search box and click “Search.” Next, look for this document in the Search Results column, and click on it. Then click on the Comment option. In your submission, please include the docket number for this notice of inquiry and provide a reason for each suggestion or recommendation. If your material cannot be submitted using https://www.regulations.gov, contact the person in the FOR FURTHER INFORMATION CONTACT section of this document for alternate instructions.

Public comments will also be placed in our online docket and can be viewed by following instructions on the https://www.regulations.gov Frequently Asked Questions web page. We review all comments received, but we may choose not to post off-topic, inappropriate, or duplicate comments that we receive.

We accept anonymous comments. Comments we post to https://www.regulations.gov will include any personal information you have provided. For more about privacy and submissions in response to this document, see DHS's eRulemaking System of Records notice (85 FR 14226, March 11, 2020).

We plan to hold one public meeting virtually. The public meeting will take place at 10 a.m. on September 23, 2024. For information on facilities or services for individuals with disabilities or to request special assistance at the public meeting, contact the person named in the FOR FURTHER INFORMATION CONTACT section, above.

This document is issued under authority of 5 U.S.C. 552(a).

Dated: August 21, 2024.
S.L. Crecy,
Captain, U.S. Coast Guard, Captain of the Port Los Angeles—Long Beach.

[FR Doc. 2024-20187 Filed 9-6-24; 8:45 am]

BILLING CODE 9110-04-P